DEPARTMENT OF JUSTICE

Notice of Lodging of Proposed Consent Decree Under the Oil Pollution Act

On November 9, 2018, the Department of Justice lodged a proposed Consent Decree with the United States District Court for the Eastern District of Louisiana in the lawsuit entitled United States of America and State of Louisiana v. Hess Corporation, Civil Action No. 2:18-cv-10727. The United States is acting at the request of the designated federal trustee: The United States Department of the Interior, through the United States Fish and Wildlife Service. The State of Louisiana (the “State”) is acting through its designated State trustees: The Louisiana Oil Spill Coordinator's Office, Department of Public Safety, Louisiana Department of Natural Resources, Louisiana Department of Environmental Quality, Louisiana Department of Wildlife and Fisheries, and the Coastal Protection and Restoration Authority.

The United States and the State have filed a Complaint against Hess Corporation (“Hess”) under Section 1002 of the Oil Pollution Act (“OPA”), 33 U.S.C. 2702, and Section 2480 of the Louisiana Oil Spill Prevention and Response Act (“OSPRA”), La. Rev. Stat. 30:2480, for the recovery of damages for injury to, destruction of, loss of, or loss of use of natural resources, plus the unreimbursed costs of assessing such injuries, resulting from Hess's crude oil discharge into the Gulf of Mexico from its offshore platform in Block 51 of Breton Sound, Plaquemines Parish, Louisiana, on or about June 12, 2005.

Under the proposed Consent Decree, Hess will pay a total of $8,723,394.88. Of this total, Hess will pay $8.630 million to the trustees to restore, replace, or acquire the equivalent of the natural resources allegedly injured, destroyed, or lost as a result of the oil spill and $93,394.88 to reimburse the trustees for all remaining unpaid assessment costs.

The publication of this notice opens a period for public comment on the proposed Consent Decree. Comments should be addressed to the Assistant Attorney General, Environment and Natural Resources Division, and should refer to United States of America and State of Louisiana v. Hess Corporation, D.J. Ref. No. 90-11-3-11785. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $7.25 (25 cents per page reproduction cost) payable to the United States Treasury.

Thomas Carroll,
Assistant Section Chief,Environmental Enforcement Section,Environment and Natural Resources Division.

[FR Doc. 2018-25211 Filed 11-19-18; 8:45 am]

BILLING CODE 4410-15-P